ADMINISTRATIVE COMMITTEE OF THE FEDERAL REGISTER

1 CFR Parts 2, 10 and 11

[A.G. Order No. 3036-2009]

Availability and Official Status of the Compilation of Presidential Documents

AGENCY: Administrative Committee of the Federal Register.

ACTION: Final rule.

SUMMARY: This final rule establishes a new official updated daily online-only publication entitled the “Daily Compilation of Presidential Documents.” The paper edition of the Weekly Compilation of Presidential Documents will no longer be issued. The annual edition of the Public Papers of the President will be based on the text of the Daily Compilation of Presidential Documents. The price for subscription to the Weekly Compilation of Presidential Documents has also been removed from the regulations, as this publication will no longer exist and the online Daily Compilation is available free of charge on the Internet. This rule also revises the regulatory text to make it more readable and consistent with plain language principles.

DATES: This final rule is effective January 20, 2009.

ADDRESSES: Docket materials are available at the Office of the Federal Register, 800 North Capitol Street, NW., Suite 700, Washington, DC 20001, 202-741-6030 or the Federal eRulemaking Portal: http://www.regulations.gov. If at all possible, please contact the persons listed in the FOR FURTHER INFORMATION CONTACT section to schedule your inspection of docket materials. The Office of the Federal Register's official hours of business are Monday through Friday, 8:45 a.m. to 5:15 p.m., excluding federal holidays.

FOR FURTHER INFORMATION CONTACT: Amy P. Bunk, Director of Legal Affairs and Policy, Office of the Federal Register, or Allyson Fenton Christou, Attorney-Advisor, Legal Affairs and Policy, Office of the Federal Register at Fedreg.legal@nara.gov, or 202-741-6030.

SUPPLEMENTARY INFORMATION:

Background and Purpose

Under the Federal Register Act (44 U.S.C. Chapter 15), the Administrative Committee of the Federal Register (ACFR) is responsible for issuing regulations governing Federal Register publications. The Administrative Committee has general authority under 44 U.S.C. 1506 to determine the manner and form for publishing the Federal Register and its special editions. The Administrative Committee, with the approval of the Acting Archivist and the Attorney General, is amending its regulations in 1 CFR parts 2, 10, and 11 to discontinue one of the special edition publications, the Weekly Compilation of Presidential Documents (Weekly Compilation) and to establish a new updated daily online-only publication called the Daily Compilation of Presidential Documents (Daily Compilation).

In 1965 President Johnson, concerned that his appointed officials speak with a united voice, recommended that a new publication be developed to contain the statements, messages, and other Presidential materials released by the White House. In response, the ACFR approved, and the Office of the Federal Register commenced publication of the Weekly Compilation of Presidential Documents on August 2, 1965. During the Carter Administration the Office established a direct link between the Weekly Compilation and the Public Papers of the Presidents (Public Papers) series: The volumes of Public Papers became compilations of the weekly series. Encompassing approximately a six-month time period, each volume of the Public Papers contained the material in the weekly compilations with appropriate emendations and additions, rather than a set of selected papers edited separately.

The Weekly Compilation is an official serial publication of Presidential documents. Office of the Federal Register (OFR) editors review all material submitted for publication in the Weekly Compilation to assure the accuracy and integrity of the publication. The Weekly Compilation contains Presidential statements, memoranda, messages to Congress and federal agencies, speeches and other remarks released by the White House. The Weekly Compilation is mailed via United States Post Office bulk rate postage to approximately 155 subscribers the week after the events occurred. This means that by the time the subscribers receive their copy of this publication the events discussed happened at least two weeks before its receipt. These subscribers can obtain much of the same information from other sources, but without the guaranty of accuracy and integrity provided by the OFR editors.

The Government Printing Office Electronic Information Access Enhancement Act of 1993 (GPO Access), 44 U.S.C. 4101, provided additional authority for the Administrative Committee to expand public access to Federal Register publications, beginning with the inauguration of online Federal Register service on June 8, 1994.

In 1997, the OFR/GPO partnership developed a pilot for an online edition of the Weekly Compilation. Like the online Code of Federal Regulations, the online edition of the Weekly Compilation includes text-only files and PDF files. The files begin with documents from January 1993 through the present. The Weekly Compilation of Presidential Documents became officially recognized in 2000. This rule discontinues the print publication of the Weekly Compilation of Presidential Documents and establishes a new official online-only publication, the Daily Compilation of Presidential Documents. All prior Weekly Compilation editions will remain permanently available through the GPO Web site, and that search and retrieval capability will be integrated with Daily Compilation items to ensure ease of access for the public.

Budgetary restraints require cost-cutting measures, including the discontinuation of the softbound print edition of the Weekly Compilation. The new Daily Compilation of Presidential Documents will contain the same information contained in the Weekly Compilation: Presidential statements, memoranda, messages to Congress and federal agencies, speeches, and other remarks released by the White House. OFR editors will continue to review all material submitted for publication in the Weekly Compilation to assure the accuracy and integrity of the publication. This new publication will not expand any regulated community or impose any additional regulatory burden. Readers will be able to download and print the Daily Compilation. This new publication will be permanently stored online via the GPO. The new daily publication will increase access to Presidential documents and allow for its more frequent updating.

This final rule revises the title of Subpart A from “Weekly Publication” to “Regular Publication” to allow for the regular, daily online publication of the Daily Compilation of Presidential Documents. This rule also changes the title of the Compilation from the “Weekly Compilation of Presidential Documents” to the “Daily Compilation of Presidential Documents” in section 10.1. The format of the publication is specified in section 10.3, explaining that the Daily Compilation of Presidential Documents will be published online through the Government Printing Office's (GPO's) online access system. The annual publication of the Public Papers of the Presidents of the United States will continue to be published in paper. Section 10.11 specifies that the text of the Public Papers will consist of the documents included in the Daily Compilation of Presidential Documents. The provision regarding the price of a subscription to the Weekly Compilation of Presidential Documents is removed as the Weekly Compilation is being replaced by the Daily Compilation, which can be accessed on the Internet free of charge. The title of the Compilation is also updated in section 2.5(c). The affected sections are also slightly reorganized to create a structure consistent with plain language requirements.

Customers who need assistance or wish to submit suggestions for improving online Federal Register publications are referred to the GPO Access User Support Team. GPO provides information on free public access to the online editions of Federal Register publications on the GPO Access service via: ContactCenter@gpo.gov; Phone: 1-866-512-1800 (toll-free); 202-512-1800 (DC Area); Fax: 202-512-2104; GPO's Federal Register World Wide Web site at http://www.gpoaccess.gov/wcomp/index.html, or see the National Archives and Records Administration's Federal Register Web site at: http://www.federalregister.gov/. Federal depository libraries (for the location of the nearest depository library, call the telephone numbers listed above or access the information online at http://www.access.gpo.gov/sudocs/libpro.html).

Regulatory Analysis

We developed this rule after considering numerous statutes and executive orders related to rulemaking. Below we summarize our analyses based on these statutes and executive orders.

Administrative Procedure Act

The Administrative Committee has determined that the Administrative Procedure Act's (APA) requirements for notice and comment and a 30-day delay in the effective date are unnecessary under the good cause exception of 5 U.S.C. 553(b)(B) and (d)(3). This rule is not a substantive rule that materially affects the rights or obligations of any person. Moreover, this change would not affect documents with legal effect. Executive Orders will still publish in the Federal Register both online and in hard copy. There are no notice and comment requirements for any of the documents published in the Weekly Compilation of Presidential Documents.

In addition, this rule merely pertains to the form that the Federal Register uses to publish certain presidential documents, not the nature and quantity of the documents to be published. As mentioned earlier in this preamble, the discontinuation of the softbound print edition of the Weekly Compilation of Presidential Documents is a result of budgetary restraints, but changing to an online Compilation will not decrease the availability of these documents; indeed, providing an online version will increase availability to the general public. The online Compilation will not expand any regulated community or impose any additional regulatory burden. Indeed, the online publication of the Compilation will increase access to Presidential documents and allow for more frequent updating. The online-only publication will be permanently maintained on the GPO Web site as an official publication of the ACFR. Currently, there are approximately 155 subscribers to the Weekly Compilation of Presidential Documents. The vast majority of subscribers to the Weekly Compilation are libraries and other public and private institutions with Internet access. There are approximately twelve individual subscribers to the softbound print edition of the Weekly Compilation. These individuals and other members of the public can access the Daily Compilation online through free Internet access at federal depository libraries and many other public libraries.

Finally, the new form for publishing these presidential documents will result in more timely publication, to a vastly larger audience. Currently, the Weekly Compilation of Presidential Documents is mailed via United States Post Office bulk rate postage to approximately 155 subscribers the week after the events occurred. This means that by the time the subscribers receive their copy of this publication the events discussed happened at least 2 weeks before its receipt. Therefore, the conversion to an online Daily Compilation actually decreases the amount of time between paper publication and access by the public.

For these reasons, the Committee also believes that good cause exists for making this rule effective less than 30 days after publication in the Federal Register under 5 U.S.C. 553 (b)(B) and (d)(3).

Executive Order 12866

The final rule has been drafted in accordance with Executive Order 12866, section 1(b), “Principles of Regulation.” The ACFR has determined that this final rule is not a significant regulatory action, as defined under section 3(f) of Executive Order 12866. The rule has not been submitted to the Office of Management and Budget under section 6(a)(3)(E) of Executive Order 12866.

Regulatory Flexibility Act

This rule will not have a significant impact on small entities since it imposes no requirements. Members of the public can access Federal Register publications through the free GPO Access service over the Internet.

Federalism

This rule has no federalism implications under Executive Order 13132. It does not impose compliance costs on state or local governments or preempt state law.

Congressional Review

This rule is not a major rule as defined by 5 U.S.C. 804(2). The Administrative Committee will submit a rule report, including a copy of this final rule, to each House of the Congress and to the Comptroller General of the United States as required under the congressional review provisions of the Small Business Regulatory Enforcement Fairness Act of 1986.

List of Subjects

1 CFR Part 2

Federal Register publications, Government publications, Organization and functions (Government agencies).

1 CFR Part 10

Government publications, Presidential documents, Public Papers of the Presidents of the United States, Daily Compilation of Presidential Documents.

1 CFR Part 11

Code of Federal Regulations, Federal Register, Government publications, Daily Compilation of Presidential Documents.

For the reasons discussed in the preamble, the Administrative Committee of the Federal Register, with the approval of the Acting Archivist of the United States and the Attorney General, amends parts 2, 10, and 11 of chapter I of title 1 of the Code of Federal Regulations as set forth below:

PART 2—GENERAL INFORMATION

1. The authority citation for part 2 continues to read as follows:

Authority: 44 U.S.C. 1506; sec. 6, E.O. 10530; 19 FR 2709; 3 CFR 1954-1958 Comp., p. 189; 1 U.S.C. 112; 1 U.S.C. 113.

2. Amend § 2.5 by revising paragraph (c) to read as follows:

§ 2.5 Publication of statutes, regulations and related documents.

* * * * *

(c) Based on source materials that are officially related to the acts and documents filed under paragraph (a) of this section, the Office also publishes “The United States Government Manual,” the “Public Papers of the Presidents of the United States,” the “Daily Compilation of Presidential Documents,” the “Federal Register Index,” and the “LSA (List of CFR Sections Affected).”

PART 10—PRESIDENTIAL PAPERS

1. The authority citation for part 10 continues to read as follows:

Authority: 44 U.S.C. 1506; sec. 6, E.O. 10530, 19 FR 2709, 3 CFR, 1954-1958 Comp., p. 189.

2. Revise the heading of Subpart A to read as follows:

Subpart A—Regular Publication

3. Revise § 10.1 to read as follows:

§ 10.1 Publication required.

The Director publishes a special edition of the Federal Register compiling recent presidential documents, called “The Daily Compilation of Presidential Documents.”

4. Amend § 10.2 by revising paragraph (a) introductory text to read as follows:

§ 10.2 Scope and sources.

(a) The text of the publication consists of oral statements by the President or of writing subscribed by the President, and selected from transcripts or text issued by the Office of the White House Press Secretary, including—

* * * * *

5. Revise § 10.3 to read as follows:

§ 10.3 Format.

The Daily Compilation of Presidential Documents is published online on the Government Printing Office access system.

6. Revise § 10.11 to read as follows:

§ 10.11 Scope and sources.

The basic text of the Public Papers consists of the documents compiled under subpart A of this part.

PART 11—SUBSCRIPTIONS

1. The authority citation for part 11 continues to read as follows:

Authority: 44 U.S.C. 1506; sec. 6, E.O. 10530, 19 FR 2709, 3 CFR, 1954-1958 Comp., p. 189.

§ 11.6 [Reserved].

2. Remove and reserve § 11.6.

Dated: January 13, 2009.
Adrienne Thomas,
Acting Chairperson, Administrative Committee of the Federal Register.
Dated: January 13, 2009.
Robert C. Tapella,
Member, Administrative Committee of the Federal Register.
Dated: January 13, 2009.
Rosemary Hart,
Member, Administrative Committee of the Federal Register.
Dated: January 13, 2009.
Michael B. Mukasey,
Attorney General.
Dated: January 13, 2009.
Adrienne Thomas,
Acting Archivist of the United States.

[FR Doc. E9-1334 Filed 1-16-09; 8:45 am]

BILLING CODE 1505-02-P